FEDERAL COMMUNICATIONS COMMISSION

47 CFR Part 8

[CG Docket No. 22-2; FCC 22-7; FR ID 69891]

Empowering Broadband Consumers Through Transparency

AGENCY: Federal Communications Commission.

ACTION: Proposed rule.

SUMMARY: In this document, the Commission proposes measures to implement certain provisions of the Infrastructure Investment and Jobs Act (Infrastructure Act). Specifically, the Commission proposes to require that broadband internet access service providers (ISPs) display, at the point of sale, labels to disclose to consumers certain information about prices, introductory rates, data allowances, broadband speeds, and management practices, among other things.

DATES: Comments are due on or before March 9, 2022, and reply comments are due on or before March 24, 2022.

ADDRESSES: You may submit comments, identified by CG Docket No. 22-2, by any of the following methods:

• Electronic Filers: Comments may be filed electronically using the internet by accessing the ECFS: https://apps.fcc.gov/ecfs/.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. In the event that the Commission announces the lifting of COVID-19 restrictions, a filing window will be opened at the Commission's office located at 9050 Junction Drive, Annapolis, MD 20701. See FCC Announces Closure of FCC Headquarters Open Window and Change in Hand-Delivery Policy, Public Notice, DA 20-304 (March 19, 2020), https://www.fcc.gov/document/fcc-closes-headquarters-open-window-and-changes-hand-delivery-policy.

People with Disabilities: To request materials in accessible formats for people with disabilities (braille, large print, electronic files, audio format), send an email to fcc504@fcc.gov or call the Consumer and Governmental Affairs Bureau at 202-418-0530 (voice), 202-418-0432 (TTY).

FOR FURTHER INFORMATION CONTACT: Erica H. McMahon of the Consumer and Governmental Affairs Bureau at (202) 418-0346 or Erica.McMahon@fcc.gov.

SUPPLEMENTARY INFORMATION: This is a summary of the Commission's Notice of Proposed Rulemaking (NPRM), in CG Docket No. 22-2, FCC 22-7, adopted and released on January 27, 2022. The full text of the document is available for public inspection and copying via the Commission's Electronic Comment Filing System (ECFS). To request materials in accessible formats for people with disabilities (Braille, large print, electronic files, audio format), send an email to fcc504@fcc.gov or call the Consumer and Governmental Affairs Bureau at 202-418-0530 (voice).

This matter shall be treated as a “permit-but-disclose” proceeding in accordance with the Commission's ex parte rules. 47 CFR 1.1200 through 1.1216. Persons making oral ex parte presentations are reminded that memoranda summarizing the presentations must contain summaries of the substances of the presentations and not merely a listing of the subjects discussed. More than a one or two sentence description of the views and arguments presented is generally required. See 47 CFR 1.1206(b). Other rules pertaining to oral and written ex parte presentations in permit-but-disclose proceedings are set forth in § 1.1206(b) of the Commission's rules, 47 CFR 1.1206(b).

Initial Paperwork Reduction Act of 1995 Analysis

The NPRM proposes rule amendments that may result in modified information collection requirements. If the Commission adopts any modified information collection requirements, the Commission will publish a notice in the Federal Register inviting the public to comment on the requirements, as required by the Paperwork Reduction Act. Public Law 104-13; 44 U.S.C. 3501-3520. In addition, pursuant to the Small Business Paperwork Relief Act of 2002, the Commission seeks comment on how it might further reduce the information collection burden for small business concerns with fewer than 25 employees. Public Law 107-198; 44 U.S.C. 3506(c)(4).

Synopsis

1. In 2021, Congress enacted and the President signed the Infrastructure Act, which, in relevant part, directs the Commission “[n]ot later than 1 year after the date of enactment of th[e] Act, to promulgate regulations to require the display of broadband consumer labels, as described in the Public Notice of the Commission issued on April 4, 2016 (DA 16-357), to disclose to consumers information regarding broadband internet access service plans.” See Infrastructure Investment and Jobs Act, Public Law 117-58, 135 Stat. 429, section 60504(a) (2021) (Infrastructure Act). Further, the Infrastructure Act requires that any broadband consumer label adopted by the Commission “shall include information regarding whether the offered price is an introductory rate and, if so, the price the consumer will be required to pay following the introductory period.”

2. The Infrastructure Act also directs the Commission to conduct a series of public hearings to assess: (1) How consumers evaluate broadband internet access service plans; and (2) whether disclosures to consumers of information regarding broadband internet access service plans, including the disclosures required under 47 CFR 8.1, are available, effective, and sufficient. The Commission will announce the dates of such hearings, which will inform the Commission's conclusions in this proceeding, in a forthcoming Public Notice and will provide notice of the hearings separately in the Federal Register as soon as such dates are determined.

3. In this NPRM, the Commission initiates a proceeding to implement section 60504 of the Infrastructure Act, and proposes to require ISPs to display the labels approved in 2016 as part of a safe harbor, with any necessary modifications. The Commission seeks comment on the extent to which the Infrastructure Act requires or permits the Commission to depart from the labels described in its 2016 Public Notice. See Consumer and Governmental Affairs, Wireline Competition, and Wireless Telecommunications Bureaus Approve Open Internet Broadband Consumer Labels, GN Docket No. 14-28, Public Notice, 31 FCC Rcd 3358 (CGB/WCB/WTB 2016).

A. Proposed Broadband Consumer Labels

4. In the NPRM, the Commission proposes to adopt the 2016 labels subject to appropriate modifications and asks whether anything has changed since the Consumer Advisory Committee (CAC) developed the labels in 2016 that suggests the Commission should consider updating the labels in terms of content and format, and providing new guidance about where ISPs must display such labels. The Commission also seeks comment on how consumers evaluate broadband service plans and whether the 2016 labels will assist consumers with the purchase process. Should the Commission consider updating the labels to assist consumers with: (1) Selecting a broadband provider; (2) selecting a broadband service plan; (3) managing use of a broadband service plan; and (4) deciding whether and when to switch an existing broadband provider or plan? The Commission also seeks comment on how ISPs currently disclose information about their broadband services. How should their current practices inform the Commission's decisions about the labels adopted going forward? Additionally, the Commission seeks comment on the scope of broadband service plans to which the labels requirement should apply. For example, how should providers treat plans that are not currently available for purchase by consumers, such as legacy or grandfathered plans?

Content

5. The Commission proposes to adopt the content of the 2016 labels, both for fixed and mobile broadband services, with appropriate modifications. As reflected below, the 2016 labels for fixed broadband service include the following content: (1) Pricing; (2) monthly data allowance; (3) overage charges; (4) equipment fees; (5) other monthly fees; (6) one-time fees; and (7) early termination fees. The 2016 labels also include information on performance (speed, latency, and packet loss) and on network management practices. The 2016 labels for mobile broadband service include information on: (1) Pricing; (2) when you exceed data allowance; (3) other included services/features; (4) other monthly fees; (5) one-time fees; (6) service contract terms; (7) early termination fees; and (8) “bring your own device” information. The mobile broadband labels also include performance information (speed, latency, and other services on the network) and network management practices. Both the fixed and mobile broadband labels include a link to the provider's privacy policy and a link to how to file complaints and inquiries. The Commission seeks comment on whether the 2016 labels' content sufficiently includes all the information consumers need to make informed decisions. Conversely, is there information contained in the 2016 labels that is no longer necessary to serve the goals of the Infrastructure Act or the Commission, or might overwhelm consumers with too much information? For example, in regard to mobile broadband, do reporting obligations related to packet loss provide enough consumer benefit relative to any reporting costs?

6. Introductory Rates. The Commission seeks comment on whether the 2016 labels satisfy the Infrastructure Act's requirement that any label make clear whether the price offered is an introductory rate and what the price will be when the introductory period ends. Further, is the information related to introductory rates and subscription rates contained in the labels readily available to consumers and easy to understand?

7. Service Levels and Bundles. The Commission recognizes that broadband service offerings can include numerous characteristics based on differing service levels, features, add-ons, consumer location, and other factors. Is flexibility in the labels' content necessary or wise to avoid the possibility that consumers could be overwhelmed with information? Should labels include services bundled with broadband such as video, telephony, or mobile services? Should such information include any information about the quality of the bundled services, e.g., whether video is limited to 480i or allows 1080p or 4K quality?

8. Additional Content. Is there additional content the Commission should consider, given changes in the broadband marketplace, that providers were not required to include in the 2016 labels? For example, in 2017, the Commission required broadband providers to disclose whether they engage in blocking, throttling, or paid prioritization. Should the labels include information about whether there are any limitations when consumers use multiple devices on the same broadband plan? Should the labels make clear when the offered rate is contingent on consumer consent to particular restrictions, e.g., paperless billing, electronic payment, rental of equipment, and/or enrollment in related services? The Commission seeks comment on whether such information or other content should be added to the broadband consumer labels and, if so, how and where it should be presented.

9. Affordable Connectivity Program. The Commission seeks comment on whether and how to include information about the Affordable Connectivity Program (ACP) in the broadband labels. The Infrastructure Act requires providers to notify consumers about the existence of the ACP and how to enroll in the program “when a customer subscribes to, or renews a subscription to, an internet service offering of a participating provider.” In the ACP Public Notice, the Wireline Competition Bureau asked for comment on the type of disclosures the Commission should require providers to make regarding the ACP to consumers. See FCC Seeks Comment on the New Affordable Connectivity Program, WC Docket No. 21-450, Public Notice, DA 21-1453 (WCB 2021). Should the Commission require that the broadband labels include information about the ACP? To what extent can broadband labels be used to promote awareness of the ACP and how to enroll? How might those disclosures be presented on the labels?

10. Direct Notification of Term Changes. Should the Commission adopt a “direct notification” requirement for changes to terms in the labels? If so, how should providers notify consumers directly of any changes in terms of service or of any other changes to the information contained in the labels displayed to consumers when they purchased service? Should the Commission adopt a timeframe within which providers must make such notifications? Should the Commission require that the notifications be sent in advance of the changes taking affect? If so, how far in advance? The Commission also seeks comment on the costs and benefits of a direct notification requirement and any alternative approaches that should be considered.

Format

11. The Commission also proposes to adopt the format of the 2016 labels, which resemble the nutrition labels the United States Food and Drug Administration (FDA) has prescribed for food products, and seeks comment on whether the format sufficiently displays information to consumers in an effective and helpful way. The Commission seeks comment on this proposal. Are there any changes the Commission should consider to the format? Should the Commission allow ISPs any flexibility in displaying the label contents to reflect the variety of formats consumers use to learn about and subscribe to broadband services? How can the Commission provide this flexibility without weakening the effectiveness of the preferred format of the 2016 labels? How can the Commission ensure that any such flexibility would not undermine consumers' ability to comparison shop between services and providers? Should the Commission require that the labels be provided in a machine-readable format with standard, labeled fields to ensure that third parties and consumers can more readily compare across multiple providers? The term “machine-readable,” when used with respect to data, means “data in a format that can be easily processed by a computer without human intervention while ensuring no semantic meaning is lost.” See 44 U.S.C. 3502(18).

12. The Commission will be undertaking a separate rulemaking to implement section 60502(c) of the Infrastructure Act, which requires the Commission to conduct an “annual collection . . . of data relating to the price and subscription rates of each internet service offering of a participating provider under the Affordable Connectivity Program.” See Infrastructure Act, section 60502(c)(1). The Infrastructure Act further requires that the Commission “shall rely on the price information displayed on the broadband consumer label . . . for any collection of data . . . under section 60502(c)” See Infrastructure Act, section 60504(b)(2). In order to rely on such data, the Commission will need a means by which to associate the broadband-label information with the data collected under section 60502(c). One means of making that association would be for the Commission to collect all the broadband-label data, with each plan having a unique identifier that could be referenced in the section 60502(c) data collection. Another approach would be for the Commission to require all ISPs to make information about each plan available in a machine-readable format via an Application Program Interface (API) so that the Commission could access the broadband-label information for any plan included in the ISP's submission to the section 60502(c) collection. The Commission seeks comment on these two alternative approaches and their relative burdens on ISPs. The Commission also seeks comment on other approaches that should be considered to fulfill the statutory requirements of section 60502(c).

Display Location

13. The Commission proposes to require ISPs to display the labels at the point of sale. Specifically, the Commission proposes to require providers to prominently display the labels in a manner that is easily accessible to consumers and in the format prescribed by the Commission. The Commission proposes to require providers, at a minimum, to disclose the labels of any broadband service presented to consumers on an ISP's website when a consumer browses service options. The Commission seeks comment on this proposal. In addition, the Commission asks for comments on exactly how the labels should be disclosed on ISPs' websites. For instance, is including a link to the label sufficient? If so, how should the link be presented to consumers? Where else on the ISP's website should the labels be displayed and/or disclosed and how should ISPs' websites be configured for search engine optimization? The Commission also seeks comment on how the labels should be displayed at other points of sale, such as at retail locations, on apps, on online platforms, on other digital locations, and on telemarketing calls. Should ISPs provide hardcopies of the labels in retail locations? Should their telemarketing representatives email, or otherwise make available to, consumers labels before consumers make a purchase? Are there other marketing channels the Commission should consider in developing this requirement? Should these be included in bills or other communications about changes in service?

Accessibility

14. In 2015, the Commission stipulated that ISPs that wished to avail themselves of the transparency safe harbor needed to ensure that the broadband consumer label was accessible to persons with disabilities. The CAC determined that participating ISPs can best ensure accessibility to printed and online information by relying on well-established legal requirements included in the Americans with Disabilities Act and by following the guidance developed by the Web Accessibility Initiative. The CAC found that relying on these guidelines provides the best likelihood of ensuring that consumers with disabilities will be able to access necessary information about broadband services. The Commission seeks comment on whether such guidelines remain accurate today and how best to ensure that any required labels are accessible to persons with disabilities.

B. Relationship to Transparency Rule

15. The Commission seeks comment on the interplay between the existing transparency rule and the proposed broadband labels. See 47 CFR 8.1. There may be differences between the information required by the transparency rule and the proposed broadband labels. The Commission therefore seeks comment on the interplay between the two. Should display of the proposed labels fully satisfy the current transparency rule? In what ways does the transparency rule require disclosures beyond those in the proposed labels? Alternatively, do the broadband consumer labels require disclosures beyond the scope of the existing transparency rule? Will the broadband consumer labels' requirements necessitate further changes to the Commission's transparency rule? If so, how should the Commission resolve potential inconsistencies? The draft proposed rule reflects the view that display of the broadband labels would be necessary for compliance with the general transparency rule. The Commission nevertheless seeks comment on alternative rule formulations that would reflect different possible approaches to the relationship between the two and that sufficiently satisfy the objectives outlined in this NPRM.

C. Enforcement Issues

16. The Commission seeks comment on issues related to enforcement of the proposed broadband labels. What is the extent of the Commission's authority under the Infrastructure Act to enforce the broadband consumer labels as an entirely separate requirement from the transparency rule, or as an adjunct of the transparency rule, which was promulgated pursuant to the Commission's authority under the Communications Act? The Commission asks that commenters address the scope of the Commission's enforcement authority, particularly in light of Commission precedent in this area. Should the Commission adopt rules specifically governing enforcement of the broadband label requirement, or should the Commission employ the same enforcement rules and requirements that it relies on in other contexts?

17. The Commission seeks comment on how to evaluate and enforce the accuracy of the information presented in the broadband consumer labels. How can the Commission verify the accuracy of the information that a broadband provider uses in a broadband consumer label? How best can the Commission confirm that any variance between the disclosed performance metrics and actual performance as experienced by individual consumers is or is not consistent with normal network variation? How should the Commission enforce against inaccuracies in the provided information?

D. Implementation and Other Issues

18. The Commission seeks comment on the best ways for providers to implement the proposed labels, including the timelines within which they should implement them. The Commission expects providers to develop and implement procedures reasonably designed to ensure compliance with the proposed labels' requirements and, as part of that process, to notify employees, sub-contractors, agents or other persons acting on behalf of the provider in marketing the provider's services of these disclosure requirements. The Commission proposes to adopt rules in that regard, including specifying that the provider will bear the burden to demonstrate that it has made all reasonable efforts to ensure compliance should a complaint arise or other information is brought to the Commission's attention regarding the label disclosure practices of a third party acting on the provider's behalf. The Commission seeks comment on that proposal and on any alternatives.

19. In order to allow sufficient time for providers to implement the measures necessary to comply with these requirements, the Commission proposes to make these rules effective six months following publication in the Federal Register of the Office of Management and Budget's (OMB's) approval of the adopted rules. Is six months sufficient for both large and smaller providers? Should the Commission adopt a different implementation timeline or temporary exemption for smaller providers to allow them more time to come into compliance with the labels' requirements, and does the Commission have the discretion to do so? The Commission seeks comment on the proposed implementation period(s) generally. Finally, the Commission seeks comment on whether there are alternative ways, other than different implementation timeframes, to minimize the economic impact on smaller service providers while achieving the Commission's transparency objectives.

20. As part of the Commission's continuing effort to advance digital equity for all, including people of color, persons with disabilities, persons who live in rural or Tribal areas, and others who are or have been historically underserved, marginalized, or adversely affected by persistent poverty or inequality, the Commission invites comment on how any broadband consumer labels can advance equity in the provision of and access to digital communications services and products for all people of the United States, without discrimination on the basis of race, color, religion, national origin, sex, or disability. See 47 U.S.C. 151. Specifically, the Commission seeks comment on how the NPRM's proposals may promote or inhibit advances in diversity, equity, inclusion, and accessibility, as well the scope of the Commission's relevant legal authority.

21. The Commission also seeks comment on whether and how the broadband consumer labels can be used to facilitate equal access to broadband internet access services. Are there particular label requirements that would support Commission efforts in this regard? In implementing the broadband consumer labels requirement, the Commission seeks comment on the cost effectiveness of the proposals viewed as a whole. Are the costs to ISPs of adding extra information to labels at the point of sale relatively small, when considered against the benefits additional labeling would provide consumers? What are the most cost-effective ways of making labels available to consumers?

E. Legal Authority

22. The Commission believes the Infrastructure Act affords the Commission legal authority to adopt the proposed labels' requirements for ISPs. In addition, the Commission notes that the D.C. Circuit severed and upheld the Commission's 2010 transparency rule in Verizon v. FCC. See Verizon v. FCC, 740 F.3d 623 (D.C. Cir. 2014). While the majority did not expressly opine on the legal authority for the Commission's prior transparency rule, the Commission believes that, like the 2010 transparency rule, the labels proposed fall well within multiple, independent sources of the Commission's authority. The D.C. Circuit also affirmed the Commission's reliance on statutory authority under prior section 257 of the Communications Act (now moved in part to section 13 of the Act) for the transparency rule adopted there. The Commission also seeks comment on the use of Title III authority, insofar as the broadband label requirements apply to wireless licensees. Do the proposed broadband labeling requirements also advance other statutory goals? If so, what are those?

23. When the Commission has adopted disclosure requirements in the past, such as the transparency rule and its truth-in-billing requirements, it has evaluated its approach to ensure it was consistent with the First Amendment. The Commission thus likewise seeks comment on any First Amendment considerations relevant here. The Infrastructure Act directs the Commission to promulgate rules to require the display of broadband consumer labels, and the Commission's other statutory obligations include protecting consumers from unjust or unreasonable charges and practices. See 47 U.S.C. 201(b). The Commission believes the proposed regulations are designed to directly advance the government's substantial interest by providing consumers with the basic tools necessary to understand the broadband services they are purchasing and the prices for those services. In addition, they are designed to protect consumers from contracting for service where the terms of service are either unexplained or presented in a confusing manner. The Commission encourages parties to address First Amendment issues in their comments, particularly with respect to the specific labels proposed. Parties are asked to address how the proposed regulation in the area of consumer disclosures meets the requirements of Zauderer and the three prongs of the Central Hudson test. See Zauderer v. Office of Disciplinary Counsel, 471 U.S. 626 (1985); Cent. Hudson Gas & Elec. Corp. v. Pub. Serv. Comm'n of New York, 447 U.S. 557 (1980). Parties should address specifically how the proposals harmonize with Commission precedent in this area and relevant case law.

Initial Regulatory Flexibility Analysis

24. As required by the Regulatory Flexibility Act of 1980, as amended (RFA), the Commission has prepared the Initial Regulatory Flexibility Analysis (IRFA) of the possible significant economic impact on a substantial number of small entities by the policies and rules proposed in the NPRM. Written public comments are requested on the IRFA. Comments must be identified as responses to the IRFA and must be filed by the deadlines for comments on the NPRM provided.

A. Need for, and Objectives of, the Proposed Rules

25. The NPRM proposes rules to implement section 60504 of the Infrastructure Act to ensure that consumers have an easy way to understand ISPs' prices, performance, and network practices in a simple-to-understand format that does not overwhelm consumers with too much information.

26. The NPRM proposes rules to meet its statutory obligations under section 60504 of the Infrastructure Act. Specifically, the NPRM proposes to amend 47 CFR 8.1(a) of the Commission's rules to require ISPs to display labels at the point of sale to disclose to consumers certain information about prices, introductory rates, data allowances, broadband speeds, and management practices, among other things. The labels proposed are modified versions of those recommended by the Commission's Consumer Advisory Committee (CAC) in 2015, which are similar to the nutrition labels required by the United States Food and Drug Administration (FDA) on food products, and which the Commission incorporated as part of a safe harbor from the transparency requirements in 2016.

27. The NPRM proposes broadband consumer labels that contain, at a minimum, the same content contained in the 2016 labels, both for fixed and mobile broadband services. To ensure that broadband consumers have the information they need to make informed decisions, the NPRM proposes to adopt the content of the 2016 labels, both for fixed and mobile broadband services, with appropriate modifications. The 2016 labels for fixed broadband service include the following content: (1) Pricing; (2) monthly data allowance; (3) overage charges; (4) equipment fees; (5) other monthly fees; (6) one-time fees; and 7) early termination fees. In addition, the 2016 labels also include information on performance (speed, latency, and packet loss) and on network management practices. The 2016 labels for mobile broadband service include information on: (1) Pricing; (2) when you exceed data allowance; (3) other included services/features; (4) other monthly fees; (5) one-time fees; 6) service contract terms; (7) early termination fees; and (8) “bring your own device” information. The mobile broadband labels also include performance information (speed, latency, and other services on the network) and network management practices. Both the fixed and mobile broadband labels include a link to the provider's privacy policy and a link to how to file complaints and inquiries.

28. The NPRM seeks comment on whether there is other content beyond what is in the 2016 labels that should be considered. For example, should the labels include information about whether there are any limitations when consumers use multiple devices on the same broadband plan? Should the labels make clear when the offered rate is contingent on consumer consent to particular restrictions, e.g., paperless billing, electronic payment, rental of equipment, and/or enrollment in related services?

29. The NPRM proposes to adopt the format of the 2016 labels and require it for broadband consumer labels based on its success as a nutrition label format and the considerable work the CAC did in adapting the format to broadband service. In addition, the NPRM proposes to require ISPs to display the labels at the point of sale. This means disclosing the labels of any broadband service presented to consumers on an ISP's website when a consumer browses service options. Finally, the NPRM proposes to ensure that any required labels are accessible to persons with disabilities and that any broadband consumer label advances equity in the provision of and access to digital communications services and products for all people of the United States, without discrimination on the basis of race, color, religion, national origin, sex, or disability.

B. Legal Basis

30. The proposed rules are authorized under sections 4(i), 4(j), 13, 201(b), 257, and 303(r) of the Communications Act of 1934, as amended, 47 U.S.C. 154(i), 154(j), 163, 201(b), 257, 303(r), and section 60504 of the Infrastructure Investment and Jobs Act, Public Law 117-58, 135 Stat. 429.

C. Description of Projected Reporting, Recordkeeping, and Other Compliance Requirements

31. The NPRM proposes to require ISPs to disclose, through a label similar in format to the required FDA-approved nutrition labels, certain information about the provider's performance characteristics, network practices, and commercial terms.

32. The NPRM proposes to adopt the content of the Commission's 2016 safe harbor labels, both for fixed and mobile broadband services, and to make any appropriate modifications to the labels so that they “include information regarding whether the offered price is an introductory rate and, if so, the price the consumer will be required to pay following the introductory period,” as required by the Infrastructure Act.

33. The Commission proposes that the labels be provided at the point of sale and that, at a minimum, the ISPs should disclose the label on any website an ISP uses to market broadband internet access services. The NPRM also seeks comment on how the labels should be displayed at other points of sale, such as retail locations, on apps, on online platforms, on other digital locations, and on telemarketing calls and asks whether providers should provide hardcopies of the labels in retail locations. In addition, the NPRM considers whether a provider's telemarketing representative should email, or otherwise make available to, consumers labels before consumers make a purchase and whether there are other marketing channels to consider in developing this point-of-sale requirement. The Commission also considers whether the labels should be provided in a machine-readable format with standard, labeled fields to ensure that third parties and consumers can more readily compare across multiple providers. Further, the NPRM seeks comment on whether ISPs should be required to make direct notifications to consumers if any terms of service change after the labels are provided to consumers at the time of purchase.

D. Steps Taken To Minimize Significant Economic Impact on Small Entities, and Significant Alternatives Considered

34. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

35. The NPRM specifically considers the impact of the proposed label requirements on smaller broadband service providers. To address any concerns about compliance with the proposed rules by smaller broadband providers, the NPRM seeks comment on appropriate timeframes for smaller providers to implement the new requirements and asks whether there are any alternative ways, other than different implementation timeframes, to minimize the economic impact on smaller service providers while achieving the objectives set forth in the NPRM.

36. The Commission will evaluate the economic impact on small entities, as identified in comments filed in response to the NPRM and this IRFA, in reaching its final conclusions and taking action in this proceeding.

E. Federal Rules That May Duplicate, Overlap, or Conflict With the Proposed Rules

37. None.

List of Subjects in 47 CFR Part 8

Cable Television, Common Carriers, Communications common carriers, Reporting and recordkeeping requirements, Satellites, Telecommunications, Telephone, Radio.

Federal Communications Commission.
Marlene Dortch,
Secretary, Office of the Secretary.

Proposed Rules

For the reasons discussed in the preamble, the Federal Communications Commission proposes to amend 47 CFR part 8 as follows:

PART 8—INTERNET FREEDOM

1. The authority citation for part 8 is revised to read as follows:

Authority: 47 U.S.C. 154, 201(b), 257, 303(r), and the Infrastructure Investment and Jobs Act, Pub. L. 117-58 (2021).

2. Amend § 8.1 by revising paragraph (a) to read as follows:

§ 8.1 Transparency.

(a) Any person providing broadband internet access service shall publicly disclose accurate information regarding the network management practices, performance characteristics, and commercial terms of its broadband internet access services sufficient to enable consumers to make informed choices regarding the purchase and use of such services and entrepreneurs and other small businesses to develop, market, and maintain internet offerings. Such disclosure shall be made via a broadband consumer label that is prominently displayed, publicly available, and easily accessible at the point of sale in the format prescribed by the Commission:

(1) For fixed broadband, as described in “Fixed Broadband Consumer Disclosure Label”;

(2) For mobile broadband, as described in “Mobile Broadband Consumer Disclosure Label.”

BILLING CODE 67112-01-P

[FR Doc. 2022-02483 Filed 2-4-22; 8:45 am]

BILLING CODE 6712-01-C